DEPARTMENT OF DEFENSE

Department of the Army, Corps of Engineers

Notice of Intent To Prepare a Supplemental Environmental Impact Statement for the Matagorda Ship Channel Improvement Project, Calhoun and Matagorda Counties, TX

AGENCY: Corps of Engineers, Department of the Army, DoD.

ACTION: Notice of intent to prepare a draft supplemental environmental impact statement for the Matagorda Ship Channel Improvement Project, Calhoun and Matagorda Counties, TX.

SUMMARY: The Galveston District, U.S. Army Corps of Engineers (USACE) intends to prepare a Draft Supplemental Environmental Impact Statement (SEIS) for the Matagorda Ship Channel Improvement Project consistent with the National Environmental Policy Act of 1969 (NEPA). On April 22, 2020, the Record of Decision (ROD) was signed for the Matagorda Ship Channel Improvement Project (MSCIP), Calhoun and Matagorda Counties, TX Final Integrated Feasibility Report and Environmental Impact Statement (IFR-EIS). During the pre-construction engineering and design (PED) phase, the USACE identified a discrepancy between its PED calculations concerning the quantity of material to be dredged from the Matagorda Ship Channel and the quantity of such material that was evaluated in the IFR-EIS. Due to the discrepancy, the USACE determined a SEIS would be prepared, and the ROD dated April 22, 2020, was withdrawn for further consideration of findings in the SEIS. In accordance with the Council on Environmental Quality regulations, the USACE will prepare a SEIS to document and disclose the impacts of substantial changes to the proposed action and new information that are relevant to environmental concerns. This notice also announces the USACE intent to seek public input on the scope of the SEIS, information, or topics to be addressed, and public concerns surrounding the proposed action.

DATES: Public scoping comments should be submitted on or before July 3, 2023, electronically or mailed as written letters. One public scoping meeting will be held on June 7, 2023, from 6:00 p.m. to 8:00 p.m. at the Bauer Exhibit Hall in Calhoun County, 186 Henry Barber Way, Port Lavaca, TX 77979.

ADDRESSES: Submit all electronic public comments via email to Dr. Raven Blakeway: MSC_SEI@usace.army.mil. Written comments may be mailed to U.S. Army Corps of Engineers, Galveston District, ATTN: Dr. Raven Blakeway, P.O. Box 1229, Galveston, TX 77553-1229.

Pertinent information about the study can be found at: https://www.swg.usace.army.mil/Business-With-Us/Planning-Environmental-Branch/Documents-for-Public-Review/.

FOR FURTHER INFORMATION CONTACT: Questions or comments regarding the proposed Draft SEIS can be addressed by contacting Dr. Raven Blakeway by phone at 409-790-9058, emailing at MSC_SEIS@usace.army.mil, or mailed to U.S. Army Corps of Engineers, Galveston District, ATTN: Dr. Raven Blakeway, P.O. Box 1229, Galveston, TX 77553-1229.

SUPPLEMENTARY INFORMATION:

1. Authority. The Matagorda Ship Channel Improvement Project (MSCIP) study described in the Final Integrated Feasibility Report and Environmental Impact Statement (IFR-EIS) was authorized under section 216 of the Flood Control Act of 1970 (Pub. L. 91-611) and original construction was authorized under section 101 of the Rivers and Harbors Act of 1958 (Pub. L. 85-500). Section 216 authorizes the USACE to review a completed navigation, flood risk reduction, water supply, or related project due to significantly changed physical or economic conditions, and to report to Congress with recommendations regarding modification of the project's structures or operation, and for improving the quality of the environment in the overall public interest. Modifications to the original project were proposed in the IFR-EIS and the project was authorized for construction in the Water Resources Development Act of 2020 (Pub. L. 116-260). The lead agency for this action is the USACE and the non-federal sponsor is the Calhoun Port Authority (CPA).

2. Background. The purpose of the proposed action is to reduce transportation costs and increase operational efficiencies of maritime commerce movement while providing for safe, reliable navigation of the Matagorda Ship Channel (MSC). The current channel dimensions are incapable of accommodating the forecasted commodity and fleet growth without significant and system-wide inefficiencies. By expanding channel dimensions, cargo vessels could reduce or eliminate light loading measures, and larger cargo vessels unable to transit the existing channel configuration could begin using the Port of Port Lavaca (herein the Port) and adjacent facilities.

The MSC is 26 miles long, beginning at the entrance channel offshore in the Gulf of Mexico and terminating at the Port at Point Comfort. The channel is located 125 miles southwest of Galveston, Texas and 80 miles northeast of Corpus Christi, Texas. The northern reach of the channel is in Calhoun County, while the southern reach and entrance channel are in Matagorda County. The MSC is maintained between 38 and 40 feet (ft) mean lower low water (MLLW) and averages 200 to 300 ft wide. The channel has a 1,000-ft by 1,000-ft primary turning based located near Point Comfort and the Port. Mean natural water depth in Matagorda Bay is approximately 13 ft, while depth in adjacent bays ranges from seven to eight feet.

The USACE prepared the MSCIP IFR-EIS to document the feasibility of increasing economic efficiencies in the MSC and included identification of a Recommended Plan that proposed deepening the entrance channel to 49 ft MLLW and widening it from 300 ft to 550 ft; deepening the main channel to 47 ft MLLW and widening it from 200 ft to 300 ft; and increasing the turning basin to 1,200 ft by 1,200 ft. The Final IFR-EIS was completed in September 2019 and the Chief of Engineers (Chief's) Report was signed November 15, 2019 and transmitted to the U.S. Congress to request authorization of the MSCIP's Recommended Plan. The Record of Decision was signed by the Assistant Secretary of the Army (ASA) of Civil Works (CW) on April 22, 2020. Congress authorized construction of the MSCIP, in accordance with the plans and subject to conditions as described in the Chief's Report, in section 401 of the Water Resource Development Act of 2020 (Pub. L. 116-260), signed into law by President Trump on December 28, 2020.

The Final IFR-EIS described conceptual designs of the Recommended Plan and disclosed the potential impacts to the human and natural environment from its implementation. The Final IFR-EIS and ROD demonstrated how the Recommended Plan complies with environmental laws, executive orders, and regulations. Since the transmittal of the Chief's Report and construction authorization, the MSCIP has moved from the feasibility phase to the Preconstruction Engineering and Design (PED) phase, which involves completing detailed engineering, design, and technical studies needed to begin construction as recommended in the Chief's Report. In response to additional technical studies and the collection of site-specific data, several modifications to the Recommended Plan need to be considered, and particularly how the new information changes the effects analysis completed in the Final IFR-EIS. As such, the ASA(CW) rescinded the ROD for the MSCIP in a Memorandum for Record (MFR) dated December 5, 2022.

Following the Council of Environmental Quality (CEQ) regulations (40 CFR parts 1500 through 1508), 40 CFR 1502.9(d), the USACE determined that a Draft SEIS would be prepared because the agency (i) made substantial changes to the proposed action that are relevant to environmental concerns and (ii) there are significant new circumstances or information relevant to environmental concerns and bearing on the proposed action or its impacts.

Expected impacts include short- and long-term impacts to existing aquatic habitats, fish and wildlife including federally protected species and their habitat, water quality, noise, and recreation features. Impacts to aquatic habitats are anticipated to require compensatory mitigation. Additional details related to sediment testing will be described in the SEIS.

3. Alternatives. The Final IFR-EIS evaluated a range of alternatives that would modify the existing MSC, as well as a No Action Plan that would maintain the channel at the current dimensions. The Draft SEIS will focus on comparing the Recommended Plan, as described in the Chief's Report and Final IFR-EIS and proposed design changes being considered. The Draft SEIS will evaluate potential benefits and impacts of the design changes in the Recommended Plan including direct, indirect, and cumulative effects to the human and natural environments that balance the interests of navigation safety and commerce and environmental impacts. The USACE also requests identification of potential alternatives, information, and analyses relevant to the proposed action.

4. Public Participation. Scoping completed prior to and after publication of this NOI will be used to develop the Draft SEIS. The scoping comment period begins with publication of this notice and ends on July 3, 2023. All comments received during the scoping period are being used to identify additional significant resources and impacts that should be considered in the Draft SEIS. Additional comments received outside the scoping period will be considered prior to the Draft SEIS public review period, to the extent possible. For comments that cannot be addressed prior to the public review period, the comments will be included with the public review period comments and addressed at that time.

One public scoping meeting is scheduled for June 7, 2023. A Public Notice was published for the scoping meeting on the Galveston District website and in the Legal Notices section of the Bay City Tribune. Public news releases announcing the scoping period timeframe; public meeting date, time, and location; and where to send comments were published in the appropriate local newspapers, on the Galveston District and CPA websites, and were distributed to the local stakeholders and known interested parties.

5. Coordination. The USACE will serve as the lead federal agency in the preparation of the Draft SEIS. Other federal and state agencies have been invited to participate throughout the study process as Coordinating or Participating Agencies. Further coordination with environmental agencies will be conducted under the NEPA, the Fish and Wildlife Coordination Act, the Endangered Species Act, the Clean Water Act, the Clean Air Act, the National Historic and Preservation Act, the Magnuson-Stevens Fishery Conservation and Management Act, and the Coastal Zone Management Act.

6. Availability of Draft SEIS. The USACE currently estimates that the Draft SEIS will be available for public review and comment in or around late 2023 or early 2024. At that time, the USACE will provide a 45-day public review period for individuals and agencies to review and comment. The USACE will notify all interested agencies, organizations, and individuals of the availability of the draft document at that time.

Wesley E. Coleman, Jr.,
Programs Director, U.S. Army Corps of Engineers, Southwestern Division.

[FR Doc. 2023-11730 Filed 6-1-23; 8:45 am]

BILLING CODE P